DEPARTMENT OF COMMERCE

Economic Development Administration

Notice of Petitions by Firms for Determination of Eligibility to Apply for Trade Adjustment Assistance

AGENCY: Economic Development Administration, Department of Commerce.

ACTION: Notice and Opportunity for Public Comment.

Pursuant to section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat.

List of Petitions Received by EDA for Certification of Eligibility to Apply for Trade Adjustment April 1, 2008 Through April 30, 2008
Firm | Address | Date accepted for filing | Products
Hancock Lumber Co., Inc | P.O. Box 299, 4 Edes Falls Road, Casco, Maine 04015 | 3/28/08 | Produce Eastern White Pine lumber and by-products.
Mason Box Company | 521 Mt. Hope Street, North Attleboro, MA 02760 | 3/27/08 | Manufactures custom and stock gift greeting card boxes, jewelry boxes, candy boxes, security mail boxes and medical lab boxes.
Brown Street Furniture, LLC | P.O. Box 278, 87 Brown Street | 4/1/08 | Produces case goods from a variety of hardwoods—cherry, maple, ash, and pine.
Neu Dynamics Corporation | 110 Steamwhistle Drive. Ivyland, PA 18974 | 3/25/08 | Manufactures precision molds and dies.
Hilltop Precision Machining, Inc | 527 Gitts Run Road, Hanover, PA 17331 | 3/7/08 | Services provide tooling, fixtures, and wear parts of several markets which include automotive.
DaveCo Industries, Inc | 3903 Cavalier Drive. Garland, TX 75042 | 1/15/08 | Sheet metal fabricating and assembling prototype machines.
A&W Products, Co., Inc | 14 Garner Street, Port Jervis, NY 12771 | 3/28/08 | Manufacturer of wood (masonite) clipboards.
Country Candle Co., Inc | 22 West Street, Millbury, MA 01527 | 3/31/08 | Manufactures candles and scented candles.
Precision Manufacturing Technologies, Inc | 364 Bonny Street, Grand Junction, CO 81501 | 3/6/08 | Process metal by using a range of tooling procedures, may be plated if necessary.
Burke E. Porter Machinery Company | 730 Plymouth NE., Grand Rapids, MI 49505 | 3/16/08 | Measuring and checking instruments for automotive assembly line testing.
Accent Displays, Inc | 2560 Madison Avenue, Baltimore, MD 21632 | 4/1/08 | Produce display tradeshows and provide creative design fabrication and installation. For various industries' exhibits.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in section 315.9 of EDA's final rule (71 FR 56704) for procedures for requesting a public hearing. The Catalog of Federal Domestic Assistance official program number and title of the program under which these petitions are submitted is 11.313, Trade Adjustment Assistance.

Dated: April 2, 2008.
William P. Kittredge,
Program Officer for TAA.

[FR Doc. E8-7456 Filed 4-8-08; 8:45 am]

BILLING CODE 3510-24-P